DEPARTMENT OF ENERGY

Environmental Management Advisory Board

AGENCY: Department of Energy.

ACTION: Notice of Open Teleconference.

SUMMARY: This notice announces a teleconference of the Environmental Management Advisory Board (EMAB). The Federal Advisory Committee Act (Pub. L. No. 92-463, 86 Stat. 770) requires that public notice of this teleconference be announced in the Federal Register.

DATES: Wednesday, November 17, 2010, 3 p.m.-4:30 p.m.

FOR FURTHER INFORMATION CONTACT: Terri Lamb, Designated Federal Officer, EMAB (EM-42), U.S. Department of Energy, 1000 Independence Avenue, SW., Washington, DC 20585. Phone (202) 586-9007; fax (202) 586-0293 or e-mail: terri.lamb@em.doe.gov.

SUPPLEMENTARY INFORMATION: Purpose of the Board: The purpose of EMAB is to provide the Assistant Secretary for Environmental Management (EM) with advice and recommendations on corporate issues confronting the EM program. EMAB will contribute to the effective operation of the program by providing individual citizens and representatives of interested groups an opportunity to present their views on issues facing EM and by helping to secure consensus recommendations on those issues.

Tentative Agenda: The main meeting topic will be a discussion of EM's response to the September 2010 EMAB Acquisition and Project Management Subcommittee report and recommendations.

Public Participation: The teleconference is open to the public. Written statements may be filed with the Board either before or after the meeting. Individuals who wish to make oral statements pertaining to the agenda should contact Terri Lamb at the address or telephone number listed above. Requests must be received five days prior to the teleconference and reasonable provision will be made to include the presentation in the agenda. The Designated Federal Officer is empowered to conduct the meeting in a fashion that will facilitate the orderly conduct of business. Individuals wishing to make public comments will be provided a maximum of five minutes to present their comments.

Minutes: Minutes will be available by writing or calling Terri Lamb at the address or phone number listed above. Minutes will also be available at the following Web site http://www.em.doe.gov/stakepages/emabmeetings.aspx.

Issued at Washington, DC on October 28, 2010.
Rachel Samuel,
Deputy Committee Management Officer.

[FR Doc. 2010-27623 Filed 11-1-10; 8:45 am]

BILLING CODE 6450-01-P